ELECTION ASSISTANCE COMMISSION

Sunshine Act Notice

Agency: United States Election Assistance Commission.

Action: Notice of public meeting agenda.

Dates and Time: Tuesday, August 23, 2005, 10 a.m.-12 noon.

Place: Adam's Mark Hotel, 1550 Court Place, Denver, CO 80202, (303) 893-3333.

Agenda: The Commission will receive updates on the following items: Title II Requirements Payments; public comments received regarding the proposed Voluntary Voting System Guidelines; and updates on other administrative matters. The Commission will receive presentations on the Voting System Certification and Laboratory Accreditation Processes.

This meeting will be open to the public.

Person To Contact for Information: Bryan Whitener, telephone: (202) 566-3100.

Thomas R. Wilkey,
Executive Director, U.S. Election Assistance Commission.

[FR Doc. 05-15972 Filed 8-8-05; 3:17 pm]

BILLING CODE 6820-UF-M